DEPARTMENT OF THE INTERIOR

Bureau of Land Management

[NV-056-1430-ES; N-66075, N-66076, N-66077, N-66078]

Notice of Realty Action: Segregation Terminated, Lease/Conveyance for Recreation and Public Purposes

AGENCY: Bureau of Land Management.

ACTION: Segregation Terminated, Recreation and Public Purpose Lease/Conveyance.

SUMMARY: The following described public lands in Las Vegas, Clark County, Nevada were segregated on July 23, 1997 for exchange purposes under serial number N-61855. The exchange segregation on the subject lands will be terminated upon publication of this notice in the Federal Register. The lands have been examined and found suitable for leases/conveyances for recreational or public purposes under the provisions of the Recreation and Public Purposes Act, as amended (43 U.S.C. 869 et seq.). Clark County proposes to use the lands for the following libraries:

Case file N-66075, Compass Point Library

T. 22 S., R. 60 E., M.D.M.,

Sec. 10, W½SE¼SE¼SE¼, SW¼SE¼SE¼.

Containing approximately 15.00 acres and is located at Rainbow Boulevard and Windmill Lane.

Case file N-66076, Cactus South Library

T. 22 S., R. 60 E., M.D.M.,

Sec. 26, E½E½SE¼SE¼, W½SE¼SE¼SE¼.

Containing approximately 15.00 acres and is located at South Jones Boulevard and West Cactus Avenue.

Case file N-66077, Town Center Library:

T. 19 S., R. 60 E., sec. 29, SE¼SE¼NE¼, E½NE¼SE¼NE¼

Containing approximately 15.00 acres located at Durango Drive and Tropical Parkway.

Case file N-66078, Lone Mountain West Library

T. 20 S., R. 59 E., M.D.M.,

Sec. 1, SE¼NE¼SW¼, E½SW¼NE¼SW¼.

Containing approximately 15 acres and is located near North Hualapai Way and Alexander Road.

The lands are not required for any federal purpose. The leases/conveyances are consistent with current Bureau planning for this area and would be in the public interest. The leases/patents, when issued, will be subject to the provisions of the Recreation and Public Purposes Act and applicable regulations of the Secretary of the Interior, and will contain the following reservations to the United States:

1. A right-of-way thereon for ditches or canals constructed by the authority of the United States, Act of August 30, 1890 (43 U.S.C. 945).

2. All minerals shall be reserved to the United States, together with the right to prospect for, mine and remove such deposits from the same under applicable law and such regulations as the Secretary of the Interior may prescribe and will be subject to:

1. Easements in accordance with the Clark County Transportation Plan; and for N-66075, Compass Point Library, will be subject to:

1. Those rights for roadway purposes which have been granted to Clark County by right-of-way N-63015 under the Act of October 21, 1976 (43 U.S.C. 1761), and for N-66076, Cactus South Library, will be subject to:

1. Those rights for transmission/distribution purposes which have been granted to Sprint Central Telephone by right-of-way N-10688 under the Act of March 4, 1911 (43 U.S.C. 961), and for N-66077, Town Center Library, will be subject to:

1. Those rights for transmission/distribution purposes which have been granted to Sprint Central Telephone by right-of-way N-53652 under the Act of October 21, 1976 (43 U.S.C. 1761).

2. Those rights for transmission/distribution purposes which have been granted to Las Vegas Valley Water District by right-of-way N-55369 under the Act of October 21, 1976 (43 U.S.C. 1761).

3. Those rights for transmission/distribution purposes which have been granted to Southwest Gas Corporation by right-of-way N-57864 under the Act of October 21, 1976 (43 U.S.C. 1761).

4. Those rights for transmission/distribution purposes which have been granted to Nevada Power Company by right-of-way N-61051 under the Act of October 21, 1976 (43 U.S.C. 1761), and for N-66078, Lone Mountain West Library, will be subject to:

1. Those rights for roadway purposes which have been granted to Clark County by right-of-way N-61323 under the Act of October 21, 1976 (43 U.S.C. 1761).

Detailed information concerning this action is available for review at the office of the Bureau of Land Management, Las Vegas Field Office, 4765 W. Vegas Drive, Las Vegas, Nevada.

Upon publication of this notice in the Federal Register, the above described lands will be segregated from all other forms of appropriation under the public land laws, including the general mining laws, except for lease/conveyance under the Recreation and Public Purposes Act, leasing under the mineral leasing laws and disposals under the mineral material disposal laws.

For a period of 45 days from the date of publication of this notice in the Federal Register, interested parties may submit comments regarding the proposed leases/conveyances for classification of the lands to the Las Vegas Field Office Manager, Las Vegas Field Office, 4765 Vegas Drive, Las Vegas, Nevada 89108.

Classification Comments

Interested parties may submit comments involving the suitability of the lands for library sites. Comments on the classification are restricted to whether the lands are physically suited for the proposal, whether the use will maximize the future use or uses of the lands, whether the use is consistent with local planning and zoning, or if the use is consistent with State and Federal programs.

Application Comments

Interested parties may submit comments regarding the specific use proposed in the applications and plans of development, whether the BLM followed proper administrative procedures in reaching the decision, or any other factor not directly related to the suitability of the lands for library sites.

Any adverse comments will be reviewed by the State Director.

In the absence of any adverse comments, the classification of the land described in this Notice will become effective 60 days from the date of publication in the Federal Register. The lands will not be offered for lease/conveyance until after the classification becomes effective.

Dated: January 12, 2000.
Rex Wells,
Assistant Field Office Manager,
Las Vegas, NV.

[FR Doc. 00-1290 Filed 1-19-00; 8:45 am]

BILLIING CODE 1430-HC-U